DEPARTMENT OF ENERGY

Federal Energy Regulatory Commission

Combined Notice of Filings

March 3, 2009.

Take notice that the Commission has received the following Natural Gas Pipeline Rate and Refund Report filings:

Docket Numbers: RP96-359-039.

Applicants: Transcontinental Gas Pipe Line Corp.

Description: Transcontinental Gas Pipe Line Co, LLC submits two executed service agreements containing negotiated rates, and one executed amendment to a service agreement containing a negotiated rate under Rate Schedule FT etc.

Filed Date: 02/26/2009.

Accession Number: 20090227-0095.

Comment Date: 5 p.m. Eastern Time on Tuesday, March 10, 2009.

Docket Numbers: RP99-301-231.

Applicants: ANR Pipeline Company.

Description: ANR Pipeline Company submits an amendment to one Rate Schedule NNS negotiated rate agreement and one Rate Schedule ETS agreement etc.

Filed Date: 02/26/2009.

Accession Number: 20090227-0099.

Comment Date: 5 p.m. Eastern Time on Tuesday, March 10, 2009.

Docket Numbers: RP99-301-232.

Applicants: ANR Pipeline Company.

Description: ANR Pipeline Co submits Rate Schedule FTS-1 negotiated rate service agreement with Integrys Energy Service, Inc.

Filed Date: 02/26/2009.

Accession Number: 20090227-0098.

Comment Date: 5 p.m. Eastern Time on Tuesday, March 10, 2009.

Docket Numbers: RP99-301-233.

Applicants: ANR Pipeline Company.

Description: ANR Pipeline Company submits for filing and acceptance an amendment to one Rate Schedule FTS-1 negotiated rate agreement with Integrys Energy Services, Inc.

Filed Date: 02/26/2009.

Accession Number: 20090227-0097.

Comment Date: 5 p.m. Eastern Time on Tuesday, March 10, 2009.

Docket Numbers: RP09-337-001.

Applicants: Eastern Shore Natural Gas Company.

Description: Eastern Shore Natural Gas Company submits Twenty-Third Revised Sheet 4 et al. to FERC Gas Tariff, Second Revised Volume 1, to be effective 3/1/09.

Filed Date: 02/26/2009.

Accession Number: 20090227-0094.

Comment Date: 5 p.m. Eastern Time on Tuesday, March 10, 2009.

Docket Numbers: RP09-356-001.

Applicants: Williston Basin Interstate Pipeline Co.

Description: Williston Basin Interstate Pipeline Company request to amend their 2/10/09 filing of First Revised Sheet 227A.02 et al. to FERC Gas Tariff, Second Revised Volume 1.

Filed Date: 02/26/2009.

Accession Number: 20090227-0096.

Comment Date: 5 p.m. Eastern Time on Tuesday, March 10, 2009.

Docket Numbers: RP09-395-000.

Applicants: Guardian Pipeline, L.L.C.

Description: Guardian Pipeline, LLC submits Nineteenth Revised Sheet 5 et al. to its FERC Gas Tariff, Original Volume 1, to be effective 4/1/09.

Filed Date: 02/26/2009.

Accession Number: 20090227-0134.

Comment Date: 5 p.m. Eastern Time on Tuesday, March 10, 2009.

Docket Numbers: RP09-396-000.

Applicants: Northwest Pipeline GP.

Description: Northwest Pipeline GP submits Third Revised Sheet 14 to its FERC Gas Tariff, Fourth Revised Volume 1.

Filed Date: 02/26/2009.

Accession Number: 20090227-0135.

Comment Date: 5 p.m. Eastern Time on Tuesday, March 10, 2009.

Docket Numbers: RP09-397-000.

Applicants: Columbia Gas Transmission, LLC.

Description: Columbia Gas Transmission, LLC submits Ninety-Second Revised Sheet 25 et al. to its FERC Gas Tariff, Second Revised Volume 1, to be effective 4/1/09.

Filed Date: 02/26/2009.

Accession Number: 20090227-0133.

Comment Date: 5 p.m. Eastern Time on Tuesday, March 10, 2009.

Docket Numbers: RP09-398-000.

Applicants: Millennium Pipeline Company, L.L.C.

Description: Millennium Pipeline Company, LLC submits retainage adjustment mechanism annual filing.

Filed Date: 02/27/2009.

Accession Number: 20090227-0132.

Comment Date: 5 p.m. Eastern Time on Wednesday, March 11, 2009.

Docket Numbers: RP09-399-000.

Applicants: Dominion Cove Point LNG, LP.

Description: Request of Dominion Cove Point LNG, L.P. for Temporary Waiver of Tariff Provision.

Filed Date: 02/27/2009.

Accession Number: 20090227-5212.

Comment Date: 5 p.m. Eastern Time on Wednesday, March 11, 2009.

Docket Numbers: RP09-406-000.

Applicants: Paiute Pipeline Company.

Description: Paiute Pipeline Co submits a notice of change in rates for natural gas service.

Filed Date: 02/27/2009.

Accession Number: 20090302-0427.

Comment Date: 5 p.m. Eastern Time on Wednesday, March 11, 2009.

Docket Numbers: RP09-409-000.

Applicants: Cimarron River Pipeline, LLC.

Description: Cimarron River Pipeline, LLC submits the Annual Fuel Reimbursement Adjustment.

Filed Date: 02/27/2009.

Accession Number: 20090302-0419.

Comment Date: 5 p.m. Eastern Time on Wednesday, March 11, 2009.

Docket Numbers: RP09-410-000.

Applicants: Transcontinental Gas Pipe Line Company.

Description: Transcontinental Gas Pipe Line Corp submits First Revised Sheet No. 21 et al. to FERC Gas Tariff, Fourth Revised Volume No. 1.

Filed Date: 02/27/2009.

Accession Number: 20090302-0418.

Comment Date: 5 p.m. Eastern Time on Wednesday, March 11, 2009.

Docket Numbers: RP09-412-000.

Applicants: Williston Basin Interstate Pipeline Co.

Description: Williston Basin Interstate Pipeline Co submits Fifteenth Revised Sheet 724 to FERC Gas Tariff, Second Revised Volume 1, to be effective 3/1/09.

Filed Date: 02/27/2009.

Accession Number: 20090303-0039.

Comment Date: 5 p.m. Eastern Time on Wednesday, March 11, 2009.

Docket Numbers: RP09-414-000.

Applicants: SG Resources Mississippi, L.L.C.

Description: SG Resources Mississippi, LLC submits First Revised Sheet 20 et al. to FERC Gas Tariff, Original Volume 1, to be effective 4/1/09.

Filed Date: 02/27/2009.

Accession Number: 20090303-0040.

Comment Date: 5 p.m. Eastern Time on Wednesday, March 11, 2009.

Docket Numbers: RP09-415-000.

Applicants: Trunkline Gas Company, LLC.

Description: Trunkline Gas Co, LLC submits Twentieth Revised Sheet 10 et al. to FERC Gas Tariff, Third Revised Volume 1, to be effective 4/1/09.

Filed Date: 02/27/2009.

Accession Number: 20090303-0041.

Comment Date: 5 p.m. Eastern Time on Wednesday, March 11, 2009.

Docket Numbers: RP09-416-000.

Applicants: Panhandle Eastern Pipe Line Company, LP.

Description: Panhandle Eastern Pipe Line Co, LP submits Twenty-Second Revised Sheet 4 et al. to FERC Gas Tariff, Third Revised Volume 1, to be effective 4/1/09.

Filed Date: 02/27/2009.

Accession Number: 20090303-0043.

Comment Date: 5 p.m. Eastern Time on Wednesday, March 11, 2009.

Docket Numbers: RP09-417-000.

Applicants: Southwest Gas Storage Company.

Description: Southwest Gas Storage Company submits Twenty-Sixth Revised Sheet 5 to FERC Gas Tariff, First Revised Volume 1, to be effective 4/1/09.

Filed Date: 02/27/2009.

Accession Number: 20090303-0042.

Comment Date: 5 p.m. Eastern Time on Wednesday, March 11, 2009.

Docket Numbers: RP09-418-000.

Applicants: Maritimes & Northeast Pipeline, L.L.C.

Description: Maritimes & Northeast Pipeline, LLC submits First Revised Sheet 9A et al. to FERC Gas Tariff, First Revised Volume 1, to be effective 3/1/09.

Filed Date: 02/27/2009.

Accession Number: 20090303-0044.

Comment Date: 5 p.m. Eastern Time on Wednesday, March 11, 2009.

Docket Numbers: RP09-419-000.

Applicants: High Island Offshore System, L.L.C.

Description: High Island Offshore System, LLC submits Eighth Revised Sheet 11 to FERC Gas Tariff, Third Revised Volume 1.

Filed Date: 02/27/2009.

Accession Number: 20090303-0045.

Comment Date: 5 p.m. Eastern Time on Wednesday, March 11, 2009.

Docket Numbers: RP09-420-000.

Applicants: TransColorado Gas Transmission Company.

Description: TransColorado Gas Transmission Co, LLC submits its annual Fuel Gas Reimbursement Percentage Report for year ended 12/31/08, to be effective 4/1/09.

Filed Date: 02/27/2009.

Accession Number: 20090303-0046.

Comment Date: 5 p.m. Eastern Time on Wednesday, March 11, 2009.

Docket Numbers: RP09-421-000.

Applicants: Rockies Express Pipeline, LLC.

Description: Rockies Express Pipeline, LLC submits its annual percentage reconciliation and adjustment report for year ended 12/31/08.

Filed Date: 02/27/2009.

Accession Number: 20090303-0047.

Comment Date: 5 p.m. Eastern Time on Wednesday, March 11, 2009.

Docket Numbers: RP09-422-000.

Applicants: Colorado Interstate Gas Company.

Description: Colorado Interstate Gas Co submits workpapers intended to validate and to continue the existing reimbursement percentage for Lost, Unaccounted-For and Other Fuel Gas.

Filed Date: 02/27/2009.

Accession Number: 20090303-0048.

Comment Date: 5 p.m. Eastern Time on Wednesday, March 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-5148 Filed 3-10-09; 8:45 am]

BILLING CODE 6717-01-P